DEPARTMENT OF ENERGY

Federal Energy Regulatory Commission

[Docket No. CP03-53-000]

Natural Gas Pipeline Company of America; Notice of Application

February 25, 2003.

Take notice that on February 20, 2003, Natural Gas Pipeline Company of America (Natural), tendered for filing in Docket No. CP03-53-000 an application pursuant to Section 7(b) of the Natural Gas Act (NGA) and the Federal Energy Regulatory Commission's (Commission) Regulations thereunder requesting permission and approval to abandon a firm gas transportation service, and related interruptible overrun gas transportation service, authorized in Docket No. CP82-50, as amended, performed under Natural's Rate Schedule X-129 for Texas Gas Transmission Corporation (Texas Gas).

Natural states that pursuant to a gas transportation agreement between Natural and Texas Gas dated October 20, 1981, as amended, Natural receives on a firm basis up to 50,000 MMBtu of natural gas per day, with related interruptible overrun gas transportation service, for the account of Texas Gas in Beckham, Custer, Washita and Woodward Counties, Oklahoma and Wheeler County, Texas (Anadarko Area) and redelivers such gas to Texas Gas at Lowry in Cameron Parish, Louisiana.

Natural states that by a Termination Agreement between Natural and Texas Gas dated January 16, 2003, Natural and Texas Gas agreed to terminate the Agreement, as amended, effective May 27, 2003. Natural seeks authority to abandon its firm gas transportation service, and interruptible overrun gas transportation service, for Texas Gas performed under the Agreement, as amended, and Natural's Rate Schedule X-129 authorized in Docket No. CP82-50, as amended, effective May 27, 2003.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 4, 2003.

Magalie R. Salas,
Secretary.

[FR Doc. 03-4964 Filed 3-3-03; 8:45 am]

BILLING CODE 6717-01-P